NATIONAL FOUNDATION FOR THE ARTS AND THE HUMANITIES

Institute of Museum and Library Services

Notice of Proposed Information Collection Requests: Museums for Digital Learning Project Evaluation

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to announce the intent to solicit feedback on ease of use, usefulness, and recommended changes from both museum users and educators to continue to support the project in growth and utility for Museums for Digital Learning Project Evaluation. A copy of the proposed information collection request can be obtained by contacting the individual listed below in the ADDRESSES section of this Notice.

DATES: Written comments must be submitted to the office listed in the addressee section below on or before February 28, 2022.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except Federal holidays.

Persons who are deaf or hard of hearing (TTY users) can contact IMLS at 202-207-7858 via 711 for TTY-Based Telecommunications Relay Service.

FOR FURTHER INFORMATION CONTACT: Christopher J. Reich, Chief Administrator, Office of Museum Services, Institute of Museum and Library Services, 955 L'Enfant Plaza North SW, Suite 4000, Washington, DC 20024-2135. Mr. Reich can be reached by telephone at 202-653-4685, or by email at CReich@imls.gov.

SUPPLEMENTARY INFORMATION: IMLS is particularly interested in public comment that help the agency to:

• Evaluate whether the proposed collection of information is necessary for the proper performance of the functions of the agency, including whether the information will have practical utility.

• Evaluate the accuracy of the agency's estimate of the burden of the proposed collection of information including the validity of the methodology and assumptions used.

• Enhance the quality, utility, and clarity of the information to be collected; and

• Minimize the burden of the collection of information on those who are to respond, including using appropriate automated electronic, mechanical, or other technological collection techniques, or other forms of information technology, e.g., permitting electronic submissions of responses.

I. Background

The Institute of Museum and Library Services is the primary source of federal support for the Nation's libraries and museums. We advance, support, and empower America's museums, libraries, and related organizations through grant making, research, and policy development. To learn more, visit www.imls.gov.

II. Current Actions

The Museums for Digital Learning Project (https://museumsfordigitallearning.org/) has created an online resource providing K-12 educators with access to authentic collections-based museum resources for use in and outside the classroom. The project is supported through a cooperative agreement between IMLS and History Colorado, and partners include the Field Museum of Natural History and the Indianapolis Museum of Art at Newfields. The project's content is searchable by curriculum standards, grade level, and subject matter. Its Resource Kits include activities such as narratives, hotspots, slideshows, annotations, and timelines.

In this data collection, independent external evaluators will solicit feedback on the ease of use, usefulness, and recommended changes and impact of the Resource Kits from participating museum educators and staff, K-12 teachers, homeschooling parents, and grade 4-12 students. In addition, project team members will be queried to assess how well their team is collaborating and making suggestions for the project's continued improvement. This information collection is exempt from the federal regulations governing research with human subjects [45 CFR 46.201(l)] through Exemption Categories 1 and 5 and is being confirmed as such through a separate Institutional Review Board process conducted during the 60-day review.

Agency: Institute of Museum and Library Services.

Title: Museums for Digital Learning Project Evaluation.

OMB Control Number: 3137-NEW.

Agency Number: 3,137.

Respondents/Affected Public: Museum staff; teachers; homeschooling parents; grade 4-12 students; and project team members.

Total Estimated Number of Annual Respondents: TBD.

Frequency of Response: Once per request.

Average Minutes per Response: 15 minutes.

Total Estimated Number of Annual Burden Hours: TBD.

Cost Burden (dollars): TBD.

Public Comments Invited: Comments submitted in response to this Notice will be summarized and/or included in the request for OMB's clearance of this information collection.

Suzanne Mbollo,
Grants Management Specialist, Institute of Museum and Library Services.

[FR Doc. 2021-28373 Filed 12-29-21; 8:45 am]

BILLING CODE 7036-01-P